DEPARTMENT OF THE INTERIOR

National Park Service

[2253-665]

Notice of Inventory Completion: Western Michigan University, Department of Anthropology, Kalamazoo, MI

AGENCY: National Park Service, Interior.

ACTION: Notice.

SUMMARY: Western Michigan University, Department of Anthropology, has completed an inventory of human remains and associated funerary objects, in consultation with the appropriate Indian tribes, and has determined that there is no cultural affiliation between the human remains and associated funerary objects and any present-day Indian tribe. Representatives of any Indian tribe that believes itself to be culturally affiliated with the human remains and associated funerary objects may contact the Western Michigan University, Department of Anthropology. Disposition of the human remains and associated funerary objects to the Indian tribe stated below may occur if no additional requestors come forward.

DATES: Representatives of any Indian tribe that believes it has a cultural affiliation with the human remains and associated funerary objects should contact the Western Michigan University, Department of Anthropology, at the address below by July 21, 2011.

ADDRESSES: LouAnn Wurst, Department of Anthropology, Western Michigan University, 1005 Moore Hall, Kalamazoo, MI 49008, telephone (269) 387-2753.

SUPPLEMENTARY INFORMATION: Notice is here given in accordance with the Native American Graves Protection and Repatriation Act (NAGPRA), 25 U.S.C. 3003, of the completion of an inventory of human remains and associated funerary objects in the possession of the Western Michigan University, Department of Anthropology, Kalamazoo, MI. The human remains and associated funerary objects were removed from Middlebury Township, Shiawassee County, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by Western Michigan University, Department of Anthropology, professional staff in consultation with representatives of the Little Traverse Bay Bands of Odawa Indians, Michigan; Match-e-be-nash-she-wish Band of Pottawatomi Indians of Michigan; Pokagon Band of Potawatomi Indians, Michigan and Indiana; and the Saginaw Chippewa Indian Tribe of Michigan.

History and Description of the Remains

In 1974, human remains representing a minimum of 19 individuals were removed from the Gilde site, Middlebury Township, Shiawassee County, MI. The Michigan History Division, now the Michigan Historical Center, investigated the burials and conducted salvage excavations. The individuals are represented by 2,000 fragmentary remains. The ages of the individuals range from infants to adults, however, a determination of the sex of the individuals was not possible due to the fragmentary nature of the remains. The burial was inadvertently uncovered in 1974 by construction crews of the Central Michigan Sand and Gravel Company during gravel mining. The investigators noted that the heavily disturbed burials consisted of several deep pits covered with red ochre, which indicates that the site dates to the Late Archaic period (3000 B.C. to 1000 B.C.) since the use of red ochre in burials is a hallmark of this period in the Great Lakes. After recovery, the remains and funerary objects were transferred to Western Michigan University's anthropology department for further curation and study by Dr. Robert Sundick. No known individuals were identified. The 92 associated funerary objects are 79 fragments of bone from two Blue Racer snakes (Columber constrictor foxi), 12 fragments representing white-tailed deer and unidentified small and medium mammals, and 1 lot of soil samples recovered from the excavations.

Determinations Made by Western Michigan University, Department of Anthropology

Officials of Western Michigan University, Department of Anthropology, have determined that:

• Based on skeletal and dental morphology, and the Late Archaic date of the site, the human remains and associated funerary objects are Native American.

• Pursuant to 25 U.S.C. 3001(2), a relationship of shared group identity cannot be reasonably traced between the Native American human remains and associated funerary objects and any present-day Indian tribe.

• Multiple lines of evidence, such as the Treaty of Saginaw 1819 (also known as the Treaty with the Chippewa of 1819), continued occupation of the area, and oral tradition, indicate that the land from which the Native American human remains and associated funerary objects were removed is the aboriginal land of the Saginaw Chippewa Indian Tribe of Michigan.

• Pursuant to 25 U.S.C. 3001(9), the human remains described in this notice represent the physical remains of 19 individuals of Native American ancestry.

• Pursuant to 25 U.S.C. 3001(3)(A), the 92 objects described above are reasonably believed to have been placed with or near individual human remains at the time of death or later as part of the death rite or ceremony.

• Pursuant to 43 CFR 10.11(c)(1), the disposition of the human remains is to the Saginaw Chippewa Indian Tribe of Michigan.

Additional Requestors and Disposition

Representatives of any Indian tribe that believes itself to be culturally affiliated with the human remains and associated funerary objects or any other Indian tribe that believes it satisfies the criteria in 43 CFR 10.11(c)(1) should contact LouAnn Wurst, Department of Anthropology, Western Michigan University, 1005 Moore Hall, Kalamazoo, MI 49008, telephone (269) 387-2753, before July 21, 2011. Disposition of the human remains and associated funerary objects to the Saginaw Chippewa Indian Tribe of Michigan may proceed after that date if no additional requestors come forward.

Western Michigan University, Department of Anthropology, is responsible for notifying the Little Traverse Bay Bands of Odawa Indians, Michigan; Match-e-be-nash-she-wish Band of Pottawatomi Indians of Michigan; Pokagon Band of Potawatomi Indians, Michigan and Indiana; and the Saginaw Chippewa Indian Tribe of Michigan, that this notice has been published.

Dated: June 15, 2011.
Sherry Hutt,
Manager, National NAGPRA Program.

[FR Doc. 2011-15437 Filed 6-20-11; 8:45 am]

BILLING CODE 4312-50-P